DEPARTMENT OF THE INTERIOR

Fish and Wildlife Service

50 CFR Part 17

[Docket No. FWS-R2-ES-2012-0035; 4500030113]

RIN 1018-AY22

Endangered and Threatened Wildlife and Plants; Determination of Threatened Species Status for the Georgetown Salamander and Salado Salamander Throughout Their Ranges; Final Rule; Correction

AGENCY: Fish and Wildlife Service, Interior.

ACTION: Correcting amendments.

SUMMARY: We, the U.S. Fish and Wildlife Service, published a final rule in the Federal Register on February 24, 2014, to list the Georgetown salamander and Salado salamander as threatened throughout their ranges under the Endangered Species Act of 1973 (Act), as amended (Act). Inadvertently, we made a technical error in our regulatory text. This action makes the necessary correction to the List of Endangered and Threatened Wildlife. We are also taking this opportunity to revise another entry on the List to correct a typographical error.

DATES: This correction is effective April 11, 2014.

FOR FURTHER INFORMATION CONTACT: Susan Wilkinson, (703) 358-2506.

SUPPLEMENTARY INFORMATION:

Salamander Corrections

In a final rule that published February 24, 2014 (79 FR 10236), we added the Georgetown salamander (Eurycea naufragia) and the Salado salamander (Eurycea chisholmensis) to the List of Endangered and Threatened Wildlife, which is presented in a table format in the Code of Federal Regulations at 50 CFR 17.11(h). However, we inadvertently left out the “When listed” number in the table entry for each of the two species.

A “When Listed” number is a footnote that directs readers to a list of publication dates printed in a list below the table. This field is not regulatory, but gives readers helpful information that enables them to find the final rule as it appeared in the Federal Register.

The Georgetown salamander and the Salado salamander should have the same “When listed” number: 829. Therefore, we are correcting the table to include the “When listed” number for both species. This change does not affect the status of either species under the Act.

Additional Correction

In this rulemaking document we also include language to correct a typographical error in the List of Endangered and Threatened Wildlife. When the vicuña was added to the List in 2002 (67 FR 37695, May 30, 2002), an error was introduced in the “Vertebrate population where endangered or threatened” column. “Ecuador” was erroneously presented as “Ecudator”. We take this opportunity to correct this error.

List of Subjects in 50 CFR Part 17

Endangered and threatened species, Exports, Imports, Reporting and recordkeeping requirements, Transportation.

Regulation Promulgation

For the reasons given in the preamble, we amend part 17, subchapter B of chapter I, title 50 of the Code of Federal Regulations, as set forth below:

PART 17— [AMENDED]

1. The authority citation for part 17 continues to read as follows:

Authority: 16 U.S.C. 1361-1407; 1531-1544; 4201-4245; unless otherwise noted.

2. Amend § 17.11(h), the List of Endangered and Threatened Wildlife, by revising the entries for “Vicuña” under Mammals and the entries for “Salamander, Georgetown” and “Salamander, Salado” under Amphibians to read as set forth below:

§ 17.11 Endangered and threatened wildlife.

* * * * *

(h) * * *

Species: Common name | Species: Scientific name | Historic range | Vertebrate population where endangered or threatened | Status | When listed | Critical habitat | Special rules
Mammals
| * * * * * * *
Vicuña | Vicugna vicugna | Argentina, Bolivia, Chile, Ecuador, Peru | Entire, except Ecuador | T | 3,724 | NA | 17.40(m)
Vicuña | Vicugna vicugna | Argentina, Bolivia, Chile, Ecuador, Peru | Ecuador | E | 3,724 | NA | NA
| * * * * * * *
Amphibians
| * * * * * * *
Salamander, Georgetown | Eurycea naufragia | U.S.A. (TX) | Entire | T | 829 | NA | NA
| * * * * * * *
Salamander, Salado | Eurycea chisholmensis | U.S.A. (TX) | Entire | T | 829 | NA | NA
| * * * * * * *

* * * * *

Dated: April 8, 2014.
Tina A. Campbell,
Chief, Division of Policy and Directives Management.

[FR Doc. 2014-08193 Filed 4-10-14; 8:45 am]

BILLING CODE 4310-55-P